NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: December 11, 2014; 1:00 p.m. to 5:30 p.m. (EST), December 12, 2014; 8:00 a.m. to 12:00 p.m. (EST).

Place: National Science Foundation, 4201 Wilson Boulevard, Arlington, Virginia 22230; Stafford I, Room 1235.

Type of Meeting: Open.

Contact Person: Joan Miller, National Science Foundation, 4201 Wilson Boulevard, Arlington, VA 22230 (703) 292-8200.

Purpose of Meeting: To provide advice concerning issues related to the oversight, integrity, development and enhancement of NSF's business operations.

Agenda:

December 11, 2014

Welcome/Introductions; BFA/OIRM Updates; iTRAK Update; NSF Relocation Update; Succession Planning; Managing Change at NSF; Strategic Review Process.

December 12, 2014

Risk-Based Management; Prepare for Discussion with Dr. Córdova; Discussion with Dr. Córdova; Meeting Wrap-Up.

Dated: November 13, 2014.
Suzanne Plimpton,
Acting, Committee Management Officer.

[FR Doc. 2014-27233 Filed 11-17-14; 8:45 am]

BILLING CODE 7555-01-P